SMALL BUSINESS ADMINISTRATION

Harbert Mezzanine Partners II SBIC, L.P. (License No. 04/04-0298); Notice Seeking Exemption Under 312 of the Small Business Investment Act, Conflicts of Interest

Notice is hereby given that Harbert Mezzanine Partners II SBIC, L.P. One Riverchase Parkway South, Birmingham, Alabama, 35244, a Federal Licensee under the Small Business Investment Act of 1958, as amended (“the Act”), in connection with the financing of a small concern, has sought an exemption under section 312 of the Act and section 107.730, Financings Which Constitute Conflicts of Interest of the Small Business Administration (“SBA”) rules and regulations (13 CFR 107.730 (2003)). Harbert Mezzanine Partners II SBIC, L.P. proposes to provide loans to APC Work Force Solutions, LLC (DBA Zero Chaos), 111 N. Orange Ave, Suite 1400, Orlando FL, 32801. The financing is contemplated for the acquisition of another staffing company.

The financing is brought within the purview of Sec. 107.730 (a) (1) of the Regulations because Harbinger Mezzanine Partners, L.P., an Associate of Harbert Mezzanine Partners II SBIC, L.P., currently owns greater than 10 percent of APC Work Force Solutions, LLC (DBA Zero Chaos), and therefore, APC Work Force Solutions, LLC (DBA Zero Chaos), is considered an Associate of Harbert Mezzanine Partners II SBIC, L.P. as defined in Sec. 105.50 of the regulations.

Notice is hereby given that any interested person may submit written comments on the transaction, within 15 days, to the Associate Administrator for Investment, U.S. Small Business Administration, 409 Third Street, SW., Washington, DC 20416.

Dated: July 13, 2006.
Jaime Guzman-Fournier,
Associate Administrator for Investment.

[FR Doc. E6-12145 Filed 7-28-06; 8:45 am]

BILLING CODE 8025-01-P